GENERAL ACCOUNTING OFFICE

4 CFR Part 21

General Accounting Office, Administrative Practice and Procedure, Bid Protest Regulations, Government Contracts; Correction

AGENCY: General Accounting Office.

ACTION: Advance notice of proposed rulemaking; correction.

SUMMARY: This document corrects information in the Supplementary Information section in an advance notice of proposed rulemaking published in the Federal Register of February 25, 2002 (67 FR 8485) regarding revisions to the General Accounting Office's (GAO) Bid Protest Regulations. This correction states the correct GAO electronic mail address to which public comments may be sent.

FOR FURTHER INFORMATION CONTACT: John M. Melody, 202-512-8274.

Correction

In advance notice of proposed rulemaking FR Doc. 02-4337, beginning on page 8485 in the issue of February 25, 2002, make the following correction, in the Supplementary Information section. On page 8485 in the 3rd column, the last paragraph should be corrected to read as follows: “Comments may be submitted by hand delivery or mail to the address in the address line, by e-mail at BidProtestRegs@gao.gov, or by facsimile at 202-512-9749.”

Dated: February 26, 2002.
John M. Melody,
Assistant General Counsel.

[FR Doc. 02-4944 Filed 2-28-02; 8:45 am]

BILLING CODE 1610-02-M